DEPARTMENT OF THE INTERIOR

Bureau of Land Management

[CA-660-1430-ER-CACA-43368]

Proposed Environmental Impact Statement/Environmental Impact Report (EIS/EIR) for the San Diego Gas And Electric Company Valley-Rainbow 500 kV Interconnect Project, CA

AGENCY: Bureau of Land Management (BLM), and the California Public Utilities Commission (CPUC).

ACTION: Notice of Intent to prepare a joint EIS/EIR addressing the proposed Valley-Rainbow 500-kV Interconnect Project; an electrical transmission line project.

SUMMARY: In compliance with regulations at 40 CFR 1501.7 and 43 CFR 1610.2, notice is hereby given that the BLM, together with the CPUC, propose to direct the preparation of a joint EIS/EIR for the 500 kilovolt (kV) Valley-Rainbow Interconnect Project, proposed by the San Diego Gas and Electric Company (SDG&E). The BLM is the lead Federal agency for the preparation of this EIS/EIR in compliance with the requirements of the National Environmental Policy Act (NEPA), the Council on Environmental Quality (CEQ) regulation for implementing NEPA (40 Code of Federal Regulations [CFR] 1500-1508), and the Department of the Interior's manual guidance on NEPA; and the CPUC is the lead State of California agency for the preparation of this EIS/EIR in compliance with the requirements of the California Environmental Quality Act (CEQA) (Public Resources Code Section 21000 et. seq.), and implementing guidelines (California Code of Regulations [CCR] Title 14, Section 15000 et. seq.), and CPUC's Rules and Regulations to Implement CEQA. This notice initiates the public scoping for the EIS and also serves as an invitation for other cooperating agencies. Potential cooperating agencies include the U.S. Fish and Wildlife Service, the Department of Defense, the Bureau of Indian Affairs, the State Historic Preservation Officer, U.S. Corps of Engineers and the California Department of Fish and Game.

DATES: For scoping meeting and comments: One NEPA public scoping openhouse will be held during 2002 on the following date: January 8, 2002, from 3:00 pm to 8:00 pm, at the Comfort Inn, 27338 Jefferson Ave., Temecula, California.

Written comments must be postmarked no later than 30 days from the date of this notice in order to be included in the draft EIR/EIS. Please submit any comments to the address listed below.

ADDRESSES: Written comments should be addressed to Mr. James G. Kenna, Field Manager, Bureau of Land Management, Palm Springs-South Coast Field Office, 690 West Garnet Ave, P.O. Box 581260, North Palm Springs, California 92258-1260.

FOR FURTHER INFORMATION CONTACT: John Kalish, Bureau of Land Management, Palm Springs-South Coast Field Office, 690 West Garnet Ave, P.O. Box 581260, North Palm Springs, California 92258-1260, (760) 251-4849.

SUPPLEMENTARY INFORMATION: The Valley-Rainbow 500 kV Interconnect Project is proposed by SDG&E to provide an interconnection between SDG&E's existing 230 kV transmission system at the proposed Rainbow Substation, on Rainbow Heights Road near the unincorporated community of Rainbow in San Diego County, and the Southern California Edison's (SCE) existing 500 kV transmission system at the Valley Substation on Menifee Road in the unincorporated community of Romoland in Riverside County. The project area is located entirely in California within northern San Diego County and western Riverside County.

This project consists of the following new or expanded electric transmission and substation facilities. A single circuit 500 kV electric transmission line approximately 31 miles in length would connect a proposed new SDG&E 500 kV/230 kV bulk power transmission substation near the community of Rainbow, San Diego County to SCE's Valley substation near Romoland, Riverside County. The proposed 500 kV transmission line would be built on steel poles and lattice towers within a new right-of-way. To support this proposed 500 kV Interconnect system, a second 230 kV circuit would be added to the existing Talega to Escondido 230 kV transmission line on the U.S. Marine Corps Base, Camp Pendleton and private lands within San Diego County. This proposed second 230 kV circuit would be placed on existing steel supported structures. A 7.7 mile section of an existing 69kV transmission circuit, currently installed on one side of the Talega-Escondido 230 kV transmission line structures, would be rebuilt on new structures within the existing right-of-way between SDG&E's Pala and Lilac Substations, San Diego County. Voltage support upgrades to SDG&E's existing Mission, Miguel and Sycamore Canyon substations would also be needed.

The CPUC held public scoping meetings from July 10-12, 2001 in the communities of Temecula, Winchester and Pauma Valley and accepted comments from June 30 through August 7, 2001. The BLM actively participated in this State scoping process as the lead Federal agency. The State scoping process resulted in substantial comment that is broadly summarized as involving environmental issues and concerns, growth inducement, purpose and need for the project and alternatives. Possible impacts to quality of life, property values, visual and aesthetic qualities of the area, wine making and other agricultural operations, placement of schools and parks, community and residential development, recreation including hot air ballooning and human health were addressed by the public. In addition to these concerns, the BLM has identified issues related to wildlife, including threatened and endangered species, cultural resources, and Native American concerns.

Interested members of the public are now invited to participate in a NEPA scoping process, and are requested to help identify new issues or concerns and alternatives to be considered related to this proposed Project. Comments previously submitted during the CPUC scoping process are part of the official record and need not be resubmitted during this NEPA process. Written comments must be submitted no later than 30-days from the date of this notice to ensure that your comments are included in the draft EIS/EIR. When available, the public will be provided a 60-day public review period on the EIS/EIR. These documents will be made available on the Internet at BLM's Web site: www.ca.blm.gov and the CPUC Web site: www.cpuc.ca.gov/divisions/energy/Environmental/info/DUDEK/valleyrainbow.htm and at local public libraries in the California communities of Chula Vista, Escondido, Fallbrook, San Clemente, Sun City and Temecula. Contact the BLM if you would like to be included in the mailing list to receive copies of all public notices relevant to this project. Local notice will be provided a minimum of 15 days prior to the scoping open house date.

Dated: November 30, 2001.
James G. Kenna,
Field Manager.

[FR Doc. 01-32124 Filed 12-31-01; 8:45 am]

BILLING CODE 4310-40-P